ENVIRONMENTAL PROTECTION AGENCY

[EPA-HQ-OW-2014-0138; FRL-9907-31-OW]

Request for Nominations for Peer Reviewers and Notice of Public Comment Period for Draft Health Effects Documents for Perfluorooctanoic Acid and Perfluorooctane Sulfonate

AGENCY: Environmental Protection Agency (EPA).

ACTION: Request for nominations for peer reviewers and notice of public comment period.

SUMMARY: Environmental Protection Agency (EPA) invites the public to nominate scientific experts to be considered as peer reviewers for the contractor-managed external peer review of the draft documents entitled, “Health Effects Document for Perfluorooctanoic Acid” and “Health Effects Document for Perfluorooctane Sulfonate.” In addition, EPA is announcing the release of the draft health effects documents for public comment. Public comments will be made available to the peer reviewers for consideration in their review. The draft documents and charge questions were prepared in order to support potential future regulatory evaluations and decisions. These draft documents do not represent and should not be construed to represent final Agency policy.

DATES: The nomination period for scientific experts begins on February 28, 2014 and ends on March 21, 2014.

The public comment period begins on February 28, 2014 and ends on April 29, 2014. Technical comments should be submitted to the public EPA docket by April 29, 2014.

ADDRESSES: Any interested person or organization may nominate scientific experts to be considered as a peer reviewer. Nominations should be submitted in time to arrive no later than March 21, 2014. Self-nominations will also be accepted. Nominations should be submitted to the EPA contractor, Versar, Inc., online using the following URL: http://peerreview.versar.com/epa/pfoa. Nominations will also be accepted by U.S. Postal mail or by an overnight/priority mail service. http://www.versar.com/epa/bristolbaynominationform.html Mailed nominations should be addressed to Versar, Inc., 6850 Versar Center, Springfield, VA 22151 (ATTN: Betzy Colon) and should include all nominee information outlined in Section II of the SUPPLEMENTARY INFORMATION section of this document. Submit your comments on the draft health effects documents and peer review charge questions, identified by Docket ID No. EPA-HQ-OW-2014-0138, by one of the following methods:

• www.regulations.gov: Follow the on-line instructions for submitting comments.

• Email: ow-docket@epa.gov. Attention Docket No. EPA-HQ-OW-2014-0138

• Mail: EPA Water Docket, Environmental Protection Agency, Mailcode: 2822-IT, 1200 Pennsylvania Ave. NW., Washington, DC 20460. Please include a total of two copies (including references).

• Hand Delivery: EPA Water Docket, EPA Docket Center, William Jefferson Clinton West Building, Room 3334, 1301 Constitution Avenue NW., Washington, DC 20004, Docket No. EPA-HQ-OW-2014-0138. Such deliveries are only accepted during the Docket's normal hours of operation, and special arrangements should be made for deliveries of boxed information.

Instructions: EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm. For additional instructions on submitting comments, go to Section III of the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the EPA-HQ-OW-2014-0138 Docket, EPA/DC, William Jefferson Clinton Building West, Room 3334, 1301 Constitution Ave. NW., Washington, DC. The Public Reading Room is open from 8:30 a.m. to 4:30 p.m., Monday through Friday, excluding legal holidays. The telephone number for the Public Reading Room is (202) 566-1744, and the telephone number for the EPA Water Docket is (202) 566-2426.

FOR FURTHER INFORMATION CONTACT: Questions concerning the nomination process or Web site should be directed to the EPA contractor, Versar, Inc., at 6850 Versar Center, Springfield, VA 22151; by email peerreview@versar.com (subject line: PFOA/PFOS Peer Review); or by phone: (703) 642-6727 (ask for Betzy Colon). For additional information concerning the health effects documents, please contact Joyce Donohue at U.S. EPA, Office of Water, Health and Ecological Criteria Division (Mail Code 4304T), 1200 Pennsylvania Avenue NW., Washington, DC 20460; telephone: 202-566-1098; or email: donohue.joyce@epa.gov.

SUPPLEMENTARY INFORMATION:

I. Information on the Draft Health Effects Documents for Perfluorooctanoic Acid and Perfluorooctane Sulfonate

EPA has prepared draft health effects documents for Perfluorooctanoic Acid (PFOA) and Perfluorooctane Sulfonate (PFOS) for purposes of public comment (scientific views) and peer review. EPA will consider any public comments submitted in accordance with this notice when finalizing the documents. Once the health effects documents are finalized, they will be utilized to develop lifetime health advisory values for each chemical. PFOA and PFOS are listed on the third contaminant Candidate List (CCL3) ¹ and both chemicals are currently being monitored under the third Unregulated Contaminant Monitoring Rule (UCMR3) ².

¹ CCL3 is a list of contaminants that are currently not subject to any proposed or promulgated national primary drinking water regulations, that are known or anticipated to occur in public water systems, and which may require regulation under the Safe Drinking Water Act (SDWA). Additional information about the CCL3 can be found at the following Web site: http://water.epa.gov/scitech/drinkingwater/dws/ccl/ccl3.cfm.

² EPA uses the Unregulated Contaminant Monitoring (UCM) program to collect data for unregulated contaminants suspected to be present in drinking water. Results from UCMR3 can be examined as they become available at the following Web site: http://water.epa.gov/lawsregs/rulesregs/sdwa/ucmr/ucmr3/.

II. How To Submit Nominations for Peer Reviewers

Expertise Sought: EPA is seeking candidates who are nationally and/or internationally recognized scientific experts to serve as external peer reviewers for the draft health effects documents for PFOA and PFOS. Nominees should possess and demonstrate background knowledge and experience in one or more of the following areas: (1) Epidemiology, (2) toxicology (liver effects, immunotoxicity, neurotoxicity, developmental and reproductive toxicology, etc.), (3) membrane transport, (4) human health risk assessment, (5) pharmacokinetic models, and (6) mode-of-action for cancer and noncancer effects.

Selection Criteria: Selection criteria for individuals nominated to serve as external peer reviewers of the draft documents include the following: (1) Demonstrated expertise through relevant peer reviewed publications, (2) professional accomplishments and recognition by professional societies, (3) demonstrated ability to work constructively and effectively in a committee setting, (4) absence of financial conflicts of interest, (5) no actual conflicts of interest or the appearance of lack of impartiality, (6) willingness to commit adequate time for the thorough review of the draft health effects documents for PFOA and PFOS commencing in June 2014 (exact date to be determined), and (7) availability to participate in-person in a two-day peer review meeting in the Washington, DC metro area in July or August 2014 (exact date will be published in the Federal Register at least 30 days prior to the external peer review meeting). Further information regarding the external peer review meeting will be announced at a later date in the Federal Register.

Peer reviewer candidates must not have previously provided comments on the draft health effects documents for PFOA and PFOS; that is, anyone wishing to be considered as a peer reviewer must not submit comments during the 60-day public comment period. However, candidates not selected for the panel peer review will be given a limited opportunity to submit public comments once the final peer reviewers are selected by Versar, Inc., the EPA contractor managing this peer review process.

Required Nominee Information: To receive full consideration, the following information should be provided on the nomination form available at the Versar URL: (1) Contact information for the person making the nomination; (2) contact information for the nominee; (3) the disciplinary and specific areas of expertise of the nominee; (4) the nominee's curriculum vita; and (4) a biographical sketch of the nominee indicating current position, educational background, past and current research activities, and recent service on other advisory committees, peer review panels, editorial boards, or professional organizations, sources of recent grant and/or contract support, and other comments on the relevance of the nominee's expertise to this peer review topic. Compensation of non-federal peer reviewers will be provided by EPA's contractor.

Selection Process: EPA's contractor, Versar, will notify candidates of selection or non-selection. Versar may also conduct an independent search for candidates to assemble a balanced group representing the expertise needed to fully evaluate EPA's draft documents. Versar will consider and screen all candidates against the criteria listed above. Following the screening process, Versar will narrow the list of potential reviewers to 12-15 candidates. Prior to selecting the final peer reviewers, a second Federal Register notice will be published (exact date to be determined) to solicit comments on the interim list of 12-15 candidates. The public will be requested to provide relevant information or documentation on the nominees that Versar should consider in evaluating the candidates within 21 days of following the announcement of the interim candidates. Once the public comments on the interim list of candidates have been reviewed, Versar will select the final six to seven peer reviewers who, collectively, best provide expertise spanning the multiple areas listed above and, to the extent feasible, best provide a balance of perspectives. Additional information on the nomination process can be found at: http://peerreview.versar.com/epa/pfoa.

III. How to Submit Comments (Scientific Views) on the Draft Health Effects Documents

The draft documents “Health Effects Document for Perfluorooctanoic Acid” and “Health Effects Document for Perfluorooctane Sulfonate” and charge questions are available electronically by the following methods: (1) Public Docket at http://www.regulations.gov (Docket ID No. EPA-HQ-OW-2014-0138) or (2) Versar's peer review Web site at http://peerreview.versar.com/epa/pfoa. Oral or written comments will not be accepted during the external peer review meeting, so it is important that all comments be submitted during the public comment period. As stated in Section II, anyone wishing to be considered as a peer reviewer must not submit comments during the 60-day public comment period. No comments will be accepted after the closing of the comment period except from those nominated as a potential peer reviewer but not selected as a final peer reviewer.

Dated: February 24, 2014.
Nancy K. Stoner,
Acting Assistant Administrator, Office of Water.

[FR Doc. 2014-04455 Filed 2-27-14; 8:45 am]

BILLING CODE 6560-50-P